DEPARTMENT OF HEALTH AND HUMAN SERVICES

Health Resources and Services Administration

National Advisory Council on Nurse Education and Practice; Notice of Meeting

In accordance with section 10(a)(2) of the Federal Advisory Committee Act (Public Law 92-463), notice is hereby given of the following meeting:

Name: National Advisory Council on Nurse Education and Practice (NACNEP).

Dates and Times: November 7, 2013, 9:00 a.m.-5:00 p.m. Eastern Standard Time; November 8, 2013, 9:00 a.m.-5:00 p.m. Eastern Standard Time.

Place: Webinar Format.

Status: This advisory council meeting will be open to the public.

Purpose: The purpose of this meeting is to identify the key issues facing nursing workforce development to respond to the Affordable Care Act and health care system redesign, and to formulate policy recommendations for Congress and the Secretary to ensure the nursing workforce is ready to meet these challenges. The objectives of the meeting are:

(1) To articulate the key challenges facing nursing workforce development in meeting the health care needs of the nation; (2) to develop goals and priorities for Council action to address these challenges; and (3) to develop recommendations on the activities, initiatives, and partnerships that are critical to advancing twenty-first century public health education and practice models needed to promote the health of the public. This meeting will form the basis for NACNEP's mandated Twelfth Annual Report to the Secretary of Health and Human Services and Congress. The meeting will include presentations and discussion focused around the purpose and objectives of this meeting. The logistical challenges of scheduling this meeting hindered an earlier publication of this meeting notice.

Agenda: The Agenda will be available on the NACNEP Web site, noted below, one day prior to the meeting. Agenda items are subject to change as priorities dictate.

For Further Information Contact: Further information regarding NACNEP including the roster of members, Reports to Congress, and minutes from previous meetings is available at the following Web site: http://www.hrsa.gov/advisorycommittees/bhpradvisory/nacnep/index.html. Members of the public and interested parties may request to participate in the meeting by contacting our Staff Assistant, Jeanne Brown, to obtain access information. Access is by invitation only and will be granted on a first come, first served basis. Space is limited.

For additional information regarding NACNEP, please contact Jeanne Brown, Staff Assistant, National Advisory Council on Nurse Education and Practice, Parklawn Building, Room 9-61, 5600 Fishers Lane, Rockville, Maryland 20857; email at reachDN@hrsa.gov; or telephone at (301) 443-5688.

Dated: October 24, 2013.
Jackie Painter,
Deputy Director, Division of Policy and Information Coordination.

[FR Doc. 2013-25891 Filed 10-30-13; 8:45 am]

BILLING CODE 4165-15-P